DEPARTMENT OF TRANSPORTATION

Federal Aviation Administration

14 CFR Parts 25, 27, 29, 91, 121, 125, and 135

[Docket No.: FAA-2019-0491; Notice No. 19-09A]

RIN 2120-AK34

Interior Parts and Components Fire Protection for Transport Category Airplanes

AGENCY: Federal Aviation Administration (FAA), Department of Transportation (DOT).

ACTION: Notice of proposed rulemaking (NPRM); extension of comment period.

SUMMARY: This action extends the comment period for an NPRM that was published in the Federal Register on July 3, 2019. In the NPRM, the FAA proposed to amend certain airworthiness regulations for fire protection of interior compartments on transport category airplanes. The proposal would convert those flammability regulations from detailed, prescriptive requirements into simpler, performance-based standards. The proposal would divide these standards into two categories: those designed to protect the airplane and its occupants from the hazards of in-flight fires, and those designed to protect the airplane and its occupants from the hazards caused by post-crash fires. In addition, the proposal would remove test methods from the regulations and allow applicants, in certain cases, to demonstrate compliance either without conducting tests or by providing independent substantiation of the flammability characteristics of a proposed material. The proposal includes conforming changes to various FAA regulations. The proposal is necessary to eliminate unnecessary testing, increase standardization, and improve safety. The FAA is extending the closing date of the comment period to allow commenters time to adequately analyze the proposal and prepare responses.

DATES: The comment period for the NPRM published on July 3, 2019 (84 FR 31747), and scheduled to close on October 1, 2019, is extended until December 2, 2019.

ADDRESSES: Send comments identified by docket number FAA-2019-0491 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Jeff Gardlin, AIR-600, Policy and Innovation Division, Aircraft Certification Service, Federal Aviation Administration, 2200 South 216th Street, Des Moines, WA 98198; telephone (206) 231-3146; email Jeff.Gardlin@faa.gov.

SUPPLEMENTARY INFORMATION:

A. Comments Invited

The FAA invites interested persons to participate in this rulemaking by submitting written comments, data, or views. The agency also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

Except for Confidential Business Information (CBI) as described in the following paragraph, and other information as described in title 14, Code of Federal Regulations (14 CFR) 11.35, the FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The agency may change this proposal in light of the comments it receives.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, you should clearly designate the submitted comments as CBI. Please mark each page of your submission containing CBI as “PROPIN.” The FAA will treat such marked submissions as confidential under the FOIA, and they will not be placed in the public docket of this NPRM. Submissions containing CBI should be sent to Jeff Gardlin at the address listed in the FOR FURTHER INFORMATION CONTACT section. Any commentary that the FAA receives which is not specifically designated as CBI will be placed in the public docket for this rulemaking.

If submitting information on a disk or CD ROM, mark the outside of the disk or CD ROM, and identify electronically within the disk or CD ROM the specific information that is proprietary or confidential.

B. Availability of Rulemaking Documents

An electronic copy of rulemaking documents may be obtained from the internet by—

1. Searching the Federal eRulemaking Portal (http://www.regulations.gov);

2. Visiting the FAA's Regulations and Policies web page at http://www.faa.gov/regulations_policies; or

3. Accessing the Government Printing Office's web page at http://www.gpo.gov/fdsys/.

Copies may also be obtained by sending a request to the Federal Aviation Administration, Office of Rulemaking, ARM-1, 800 Independence Avenue SW, Washington, DC 20591, or by calling (202) 267-9677. Commenters must identify the docket or notice number of this rulemaking.

All documents the FAA considered in developing this proposed rule, including economic analyses and technical reports, may be accessed from the internet through the Federal eRulemaking Portal referenced in item (1) above.

Background

On July 3, 2019, the FAA published the NPRM entitled “Interior Parts and Components Fire Protection for Transport Category Airplanes,” Notice No. 19-09, in the Federal Register (84 FR 31747). Commenters were instructed to provide comments on or before October 1, 2019. Since publication, 11 commenters ¹ have requested an extension of the comment period, citing the magnitude of changes and restructuring of existing flammability regulations. Two commenters requested an additional 90 days, 6 commenters an additional 120 days, and 3 others an additional 180 days. The commenters stated a longer timeframe is necessary to properly assess and coordinate the potential impact to design, materials, certification implementation, and to develop constructive feedback. In addition, the commenters stated that certain test methods being developed by the FAA are not yet fully developed or validated.

¹ The commenters are Airbus SAS, The Boeing Company, Bombardier Aviation, Embraer S.A., F.List GmbH (F/List), General Aviation Manufacturers Association (GAMA), Gulfstream Aerospace Corporation, International Coordinating Council of Aerospace Industries Associations—Cabin Safety Working Group, Nitto ATP Finals, Safran Cabin Inc., and SEKISUI Polymer Innovations, LLC.

The FAA agrees with the petitioners' request for an extension of the comment period. The FAA recognizes that, given the scope of proposed changes is extensive and the subject complex, an extension of the comment period would help commenters craft complete and thoughtful responses. Although the minimum requested extension was 90 days, which is the length of the original comment period, such an extension would delay any action of the final rule until 2020. A 60-day extension (in this case 62 days to avoid a weekend) would be consistent with similar actions in the past and would allow the FAA to begin dispositioning comments in 2019. Therefore, the FAA agrees to extend the comment period an additional 62 days. With this extension, the comment period will now close on December 2, 2019. This will provide the public with a total of 152 days to conduct its review. The FAA does not anticipate any further extension of the comment period for this rulemaking.

Extension of Comment Period

In accordance with 14 CFR 11.47(c), the FAA has reviewed the petitions for extension of the comment period for Notice No. 19-09. The petitioners have shown a substantive interest in the proposed rule and good cause for an extension of the comment period. The FAA has determined that an extension of the comment period for an additional 62 days to December 2, 2019, is in the public interest. Accordingly, in accordance with § 11.47 of title 14, Code of Federal Regulations, the comment period for Notice No. 19-09 is extended until December 2, 2019.

Issued under the authority provided by 49 U.S.C. 106(f), 44701(a), and 44703 in Washington, DC, on September 24, 2019.
Forest Rawls III,
Acting Deputy Executive Director, Office of Rulemaking.

[FR Doc. 2019-21060 Filed 10-1-19; 8:45 am]

BILLING CODE 4910-13-P